DEPARTMENT OF COMMERCE

National Oceanic and Atmospheric Administration

50 CFR Part 679

[Docket No. 000119015-0015-01; I.D. 010500A]

RIN 0648-AM32

Fisheries of the Exclusive Economic Zone Off Alaska; Steller Sea Lion Protection Measures for the Pollock Fisheries Off Alaska; Correction

AGENCY: National Marine Fisheries Service (NMFS), National Oceanic and Atmospheric Administration (NOAA), Commerce.

ACTION: Final rule; correction.

SUMMARY: This document contains corrections to the emergency interim rule to implement reasonable and prudent alternatives to avoid the likelihood that the pollock fisheries off Alaska will jeopardize the continued existence of the western population of Steller sea lions or adversely modify their critical habitat that was published in the Federal Register on January 25, 2000.

DATES: Effective February 4, 2000.

FOR FURTHER INFORMATION CONTACT: Kent Lind, 907-586-7650.

SUPPLEMENTARY INFORMATION: An emergency interim rule was published in the Federal Register on January 25, 2000 (65 FR 3892), implementing reasonable and prudent alternatives to avoid the likelihood that the pollock fisheries off Alaska will jeopardize the continued existence of the western population of Steller sea lions or adversely modify their critical habitat.

Correction

PART 679—[CORRECTED]

On page 3902, in Table 20 to 50 CFR part 679, titled Steller Sea Lion Protection Areas in the Aleutian Islands Subarea:

In the entry for “Seguam Island”, in the fifth column of the table, remove the Longitude “172 33.06 W”, and add in its place “172 33.60 W”.

Dated: February 3, 2000.
Penelope D. Dalton,
Assistant Administrator for Fisheries, National Marine Fisheries Service.

[FR Doc. 00-3004 Filed 2-4-00; 4:46 pm]

BILLING CODE 3510-22-F